DEPARTMENT OF ENERGY

Federal Energy Regulatory Commission

[Docket No. PF04-1-000]

Golden Pass LNG LP and Golden Pass Pipeline LP; Notice of Environmental Review and Scoping for the Golden Pass LNG Terminal and Pipeline Project and Request for Comments on Environmental Issues

January 26, 2004.

The staff of the Federal Energy Regulatory Commission (FERC or Commission) will prepare an environmental impact statement (EIS) that will discuss the environmental impacts of Golden Pass LNG LP's and Golden Pass Pipeline LP's (collectively referred to as Golden Pass) proposed Golden Pass LNG Terminal and Pipeline Project in Texas and Louisiana. The proposed facilities would consist of a liquefied natural gas (LNG) import terminal and one or more interconnecting pipelines. The Commission will use this EIS in its decision-making process to determine whether or not the project is in the public convenience and necessity.

The Golden Pass LNG Terminal and Pipeline Project is currently in the preliminary design stage. At this time no formal application has been filed with the FERC. For this project, the FERC staff is initiating its National Environmental Policy Act (NEPA) review prior to receiving the application. This will allow interested stakeholders to be involved early in project planning and to identify and resolve issues before an application is filed with the FERC. A docket number (PF04-1-000) has been established to place information filed by Golden Pass and related documents issued by the Commission, into the public record.¹ Once a formal application is filed with the FERC, a new docket number will be established.

¹ To view information in the docket, follow the instructions for using the eLibrary link at the end of this notice.

This notice is being sent to residents within 0.5 mile of the proposed LNG terminal site; landowners along the various pipeline routes under consideration; Federal, state, and local government agencies; elected officials; environmental and public interest groups; Native American tribes; and local libraries and newspapers.

With this notice, we ² are asking these and other Federal, state, and local agencies with jurisdiction and/or special expertise with respect to environmental issues to formally cooperate with us in the preparation of the EIS. These agencies may choose to participate once they have evaluated the proposal relative to their responsibilities. Agencies which would like to request cooperating status should follow the instructions for filing comments described later in this notice. We encourage government representatives to notify their constituents of this planned project and encourage them to comment on their areas of concern.

² “We,” “us,” and “our” refer to the environmental staff of the Office of Energy Projects.

Some affected landowners may be contacted by a project representative about the acquisition of an easement to construct, operate, and maintain the proposed pipeline. If so, the company should seek to negotiate a mutually acceptable agreement. In the event that the project is certificated by the Commission, that approval conveys the right of eminent domain for securing easements for the pipeline. Therefore, if easement negotiations fail to produce an agreement, the company could initiate condemnation proceedings in accordance with state law.

Summary of the Proposed Project

Golden Pass proposes to construct and operate an LNG import terminal and natural gas pipeline to import LNG and deliver up to 2 billion cubic feet per day (Bcf/d) of natural gas to existing intrastate and interstate pipeline systems.

The LNG receiving terminal would be located approximately 10 miles south of Port Arthur, Jefferson County, Texas and 2 miles northwest of the town of Sabine Pass on the Sabine-Neches Waterway (Port Author Ship Channel). The terminal would be designed to accept LNG cargoes, temporarily store and vaporize LNG, and would contain up to five LNG storage tanks with an approximate capacity of 160,000 cubic meters (m3) each. It would be constructed in two phases, with a nominal output of 1 billion cubic feet per day (Bcf/d) for the first phase (three LNG tanks), increasing to 2 Bcf/d in the second phase when all five LNG storage tanks are in operation. Each tank would be approximately 150 feet tall and 250 feet in diameter.

The terminal would contain a dedicated slip and berths capable of accommodating the unloading of two LNG tankers. The berths would be designed for 200,000 m3 LNG tankers, such that the entire ship within the slip would be outside of the existing ship channel. One LNG tanker would visit the terminal every 4 days in the initial phase, increasing to one tanker every 2 days in the second phase.

A 36-inch-diameter sendout pipeline would also be constructed to transport the vaporized natural gas to interconnections with as many as 12 existing intrastate and interstate pipeline systems. Metering facilities would be installed at each of the interconnections. The pipeline would extend approximately 75 miles north from the terminal to an interstate interconnection near Starks, Calcasieu Parish, Louisiana. The pipeline would pass through Jefferson, Orange, and Newton Counties, Texas, and Calcasieu Parish, Louisiana. Approximately 63 miles of 36-inch-diameter pipeline would be constructed in Texas and 12 miles would be constructed in Louisiana. Additionally, a 5-mile-long pipeline lateral would be constructed between the sendout pipeline and the existing ExxonMobil Beaumont refinery in Jefferson County, Texas.

A map depicting the proposed terminal site and the preliminary pipeline route is provided in appendix 1.3, 4

³ The appendices referenced in this notice are not being printed in the Federal Register. Copies are available on the Commission's Internet Web site (http://www.ferc.gov) at the “eLibrary” link or from the Commission's Public Reference and Files Maintenance Branch at (202) 502-8371. For instructions on connecting to eLibrary refer to the last page of this notice.

⁴ Requests for detailed maps of the facilities may be made to the company directly. Call or e-mail: Jason B. Dupres, (281) 654-3456 or jason.b.dupres@exxonmobil.com. Be as specific as you can about the location(s) of your area(s) of interest.

Land Requirements

The proposed Golden Pass LNG terminal would be constructed and operated within an approximate 560-acre site. The ship berths would require dredging to achieve the required size and depth to accommodate the LNG tanker ships.

The sendout and lateral pipeline would be constructed on a nominal 100-foot-wide right-of-way with occasional increases in the right-of-way width for additional workspace at waterbody, highway, and railroad crossings, and for topsoil storage, and would affect about 1,000 acres. Other temporary land requirements would include land for pipe storage and equipment yards. Operation of the pipeline facilities would require a nominal 50-foot-wide permanent right-of-way, affecting about 450 acres.

The EIS Process

NEPA requires the Commission to take into account the environmental impacts that could result from an action whenever it considers the issuance of a Certificate of Public Convenience and Necessity, or an import authorization under Section 3 of the Natural Gas Act. NEPA also requires us to discover and address issues and concerns the public may have about proposals. This process is referred to as “scoping.” The main goal of the scoping process is to focus the analysis in the EIS on the important environmental issues and reasonable alternatives. By this notice, we are requesting agency and public comments on the scope of the issues to be analyzed and presented in the EIS. All scoping comments received will be considered during the preparation of the EIS. To ensure your comments are considered, please carefully follow the instructions in the public participation section of this notice.

The EIS will discuss impacts that could occur as a result of the construction and operation of the proposed project under these general headings:

• geology and soils

• water resources, fisheries, and wetlands

• vegetation and wildlife

• endangered and threatened species

• land use

• cultural resources

• air quality and noise

• public safety

Our independent analysis of the issues will be included in a draft EIS. The draft EIS will be mailed to Federal, state, and local government agencies; elected officials; environmental and public interest groups; Native American tribes; affected landowners; other interested parties; local libraries and newspapers; and the Commission's official service list for this proceeding. A 45-day comment period will be allotted for review of the draft EIS. We will consider all comments on the draft EIS and revise the document, as necessary, before issuing a final EIS. In addition, we will consider all comments on the final EIS before we make our recommendations to the Commission.

Currently Identified Environmental Issues

We have identified several issues that we think deserve attention based on a preliminary review of the planned facilities and the environmental resources present in the project area. This preliminary list of issues may be changed based information obtained during the public participation period and on our continuing analysis:

• Geology and Soils

• Assessment of dredged material management plan, including the potential for beneficial uses of dredged material.

• Water Resources

• Assessment of construction effects on water quality.

• Review of wetland areas impacted on the terminal site.

• Potential impacts of a thermal (cold water) discharge.

• Fish, Wildlife, and Vegetation

• Impingement/entrainment at seawater intake.

• Effects on wildlife and fisheries including commercial and recreational fisheries.

• Potential effect of electric transmission lines on shore birds and other birds.

• Endangered and Threatened Species

• Effects on federally-listed species including the Kemp's Ridley Sea Turtle, Green Sea Turtle, and Loggerhead Sea Turtle.

• Effects on essential fish habitat.

• Reliability and Safety

• Safety and security of the terminal and pipeline.

• LNG shipping.

Our evaluation will also include possible alternatives to the proposed project or portions of the project, and we will make recommendations on how to lessen or avoid impacts on the various resource areas of concern.

Public Participation

You can make a difference by providing us with your specific comments or concerns about the project. By becoming a commentor, your concerns will be addressed in the EIS and considered by the Commission. You should focus on the potential environmental effects of the proposal, alternatives to the proposal (including alternative locations and routes), and measures to avoid or lessen environmental impact. Golden Pass has established a preliminary pipeline route for the project; however, if minor reroutes or variations are required to avoid or minimize impacts to certain features on your property, this is your opportunity to assist us and Golden Pass in identifying your specific areas of concern. The more specific your comments, the more useful they will be. Please carefully follow these instructions to ensure that your comments are received and properly recorded:

• Send an original and two copies of your letter to: Magalie R. Salas, Secretary, Federal Energy Regulatory Commission, 888 First St., NE., Room 1A, Washington, DC 20426;

• Label one copy of your comments for the attention of Gas Branch 2; and

• Peference Docket No. PF04-1-000 on the original and both copies.

Please note that we are continuing to experience delays in mail deliveries from the U.S. Postal Service. As a result, we will include all comments that we receive within a reasonable time frame in our environmental analysis of this project. However, the Commission encourages electronic filing of any comments or interventions or protests to this proceeding. See 18 CFR 385.2001(a)(1)(iii) and the instructions on the Commission's Web site at http://www.ferc.gov under the “eFiling” link and the link to the User's Guide. Before you can file comments you will need to create a free account which can be created by clicking on “Login to File” and then “New User Account.”

If you do not want to send comments at this time but still want to remain on our mailing list, please return the Mailing List Retention Form included in Appendix 2.

Availability of Additional Information

Additional information about the project is available from the Commission's Office of External Affairs, at 1-866-208 FERC (3372) or on the FERC Internet Web site (http://www.ferc.gov). Using the “eLibrary” link, select “General Search” from the eLibrary menu, enter the selected date range and “Docket Number” (i.e., PF04-1-000), and follow the instructions. Searches may also be done using the phrase “Golden Pass” in the “Text Search” field. For assistance with access to eLibrary, the helpline can be reached at 1-866-208-3676, TTY (202) 502-8659, or at FERCOnlineSupport@ferc.gov. The eLibrary link on the FERC Internet Web site also provides access to the texts of formal documents issued by the Commission, such as orders, notices, and rule makings.

In addition, the Commission now offers a free service called eSubscription that allows you to keep track of all formal issuances and submittals in specific dockets. This can reduce the amount of time you spend researching proceedings by automatically providing you with notification of these filings, document summaries, and direct links to the documents. To register for this service, go to http://www.ferc.gov/esubscribenow.htm.

Magalie R. Salas,
Secretary.

[FR Doc. E4-164 Filed 2-2-04; 8:45 am]

BILLING CODE 6717-01-P